DEPARTMENT OF JUSTICE

Notice of Lodging of Consent Decree Under the Clean Air Act and the Emergency Planning and Community Right-To-Know Act

In accordance with Departmental policy, 28 CFR 50.7, notice is hereby given that on December 28, 2001, a proposed consent decree in United States v. Texaco Exploration and Production Inc. and Envirotech Inc., Case No. 2:01 CV-1050 ST, was lodged with the United States District Court for the District of Utah.

This consent decree represents a settlement of claims brought against Texaco Exploration and Production Inc. (“Texaco”) and Envirotech Inc. under section 113(b) of the Clean Air Act (“the CAA”), 42 U.S.C. 7413(b), and section 325(b)(3) of the Emergency Planning and Community Right-to-Know Act (“EPCRA”), 42 U.S.C. 11045(b)(3), in a civil complaint filed concurrently with the lodging of the consent decree. The complaint alleges that Texaco violated the CAA and the New Source Performance Standards, 40 CFR part 60, subparts A and KKK, at its Aneth gas plant by failing to monitor its equipment for VOC leaks, maintain records, submit reports, test its flare, and use a thermocouple to monitor its flare's pilot flame. The complaint also alleges that Texaco and Envirotect violated the CAA and the National Emission Standards for Hazardous Air Pollutants for asbestos, 40 CFR part 61, subpart M, during the removal and disposal of asbestos-containing material at the Aneth gas plant. Finally, the complaint alleges that Texaco violated section 304 of EPCRA, 42 U.S.C. 11004, by twice failing to report the release of more than 500 pounds of sulfur dioxide from its oil and gas production field in Aneth, Utah.

Under the proposed settlement, Texaco will submit a certification that its affected facility is now in compliance with the monitoring, recordkeeping, and reporting requirements of 40 CFR part 60, subpart KKK. In addition, Texaco will pay a civil penalty of $243,725 and provide up to $51,275 in emergency response equipment and hazardous materials training to a local fire department in Montezuma Creek, Utah, as a supplemental environmental project. Envirotech will pay a civil penalty of $10,000.

The Department of Justice will receive comments relating to the proposed consent decree for a period of thirty (30) days from the date of this publication. As a result of the discovery of anthrax contamination at the District of Columbia mail processing center in mid-October, 2001, the delivery of regular first-class mail sent through the U.S. Postal Service has been disrupted. Consequently, public comments that are addressed to the Department of Justice in Washington, DC and sent by regular, first-class mail through the U.S. Postal Service are not expected to be received in a timely manner. Therefore, comments should be addressed to the Assistant Attorney General, Environment and Natural Resources Division, U.S. Department of Justice, and sent: (1) C/o Robert D. Mullaney, U.S. Department of Justice, 301 Howard St., Suite 1050, San Francisco, CA 94105; and/or (2) by facsimile to (202) 353-0296; and/or (3) by overnight delivery, other than through the U.S. Postal Service, to Chief, Environmental Enforcement Section, 1425 New York Avenue, NW., 13th Floor, Washington, DC 20005. Each communication should refer on its face to United States v. Texaco Exploration and Production Inc. and Envirotech Inc., DOJ Ref. 90-5-2-1-06466.

The proposed consent decree may be examined at the Office of the United States Attorney, 185 South State Street, Suite 400, Salt Lake City, Utah 84111, and at the Region IX Office of the Environmental Protection Agency, 75 Hawthorne Street, San Francisco, CA 94105. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check payable to the “U.S. Treasury,” in the amount of $6.75 to: Consent Decree Library, U.S. Department of Justice, P.O. Box 7611, Washington, DC 20044-7611. The check should refer to United States v. Texaco Exploration and Production Inc. and Envirotech Inc., DOJ Ref. 90-5-2-1-06466.

Ellen M. Mahan,
Assistant Section Chief, Environmental Enforcement Section, Environment and Natural Resources Division.

[FR Doc. 02-1177 Filed 1-16-02; 8:45 am]

BILLING CODE 4410-15-M